DEPARTMENT OF COMMERCE

National Oceanic and Atmospheric Administration

50 CFR Part 300

[Docket No. 240506-0128; RTID 0648-XD634]

Pacific Halibut Fisheries of the West Coast; Management Measures for the 2024 Area 2A Pacific Halibut Directed Commercial Fishery

AGENCY: National Marine Fisheries Service (NMFS), National Oceanic and Atmospheric Administration (NOAA), Commerce.

ACTION: Final rule.

SUMMARY: NMFS is implementing fishing periods and fishing period limits for the 2024 Pacific halibut non-tribal directed commercial fishery off the West Coast south of Point Chehalis, WA. This action establishes two fishing periods, June 25-27 and July 9-11, 2024. NMFS is also implementing vessel catch limits applicable to eight vessel size classes. These actions are intended to conserve Pacific halibut and provide fishing opportunity where available.

DATES: This rule is effective on June 25, 2024.

FOR FURTHER INFORMATION CONTACT: Heather Fitch, West Coast Region, NMFS, (360) 320-6549, heather.fitch@noaa.gov.

SUPPLEMENTARY INFORMATION:

Background

The Northern Pacific Halibut Act of 1982 (16 U.S.C. 773-773k) (Halibut Act), gives the Secretary of Commerce responsibility for implementing the provisions of the Convention between Canada and the United States for the Preservation of the Halibut Fishery of the North Pacific Ocean and Bering Sea (Convention), signed at Ottawa, Ontario, on March 2, 1953, as amended by a Protocol Amending the Convention (March 29, 1979).

The Secretary of State, with the concurrence of the Secretary of Commerce and on behalf of the United States, has accepted regulations recommended by the International Pacific Halibut Commission (IPHC), in accordance with the Convention, which govern the Pacific halibut fishery in all regulatory areas, and include the 2024 catch limit for the Area 2A non-tribal directed commercial fishery. The IPHC's Area 2A is located off the coasts of Washington, Oregon and California, and includes the area south of Point Chehalis, WA, (lat. 46°53.30′ N) to the U.S./Mexico border. NMFS published the IPHC regulations in the Federal Register on March 18, 2024 (89 FR 19275) to provide notice of their immediate regulatory effectiveness and to inform persons subject to the regulations of their restrictions and requirements (50 CFR 300.62).

In accordance with 16 U.S.C. 773c(c) of the Halibut Act, the Pacific Fishery Management Council (Council) developed a catch sharing plan (CSP) guiding the framework distribution of the overall Area 2A allocation of Pacific halibut across the various sectors. Based on the 2024 Area 2A fishery constant exploitation yield (FCEY) of 1.47 million pounds (667 mt), net weight (i.e., the weight of Pacific halibut that is without gills and entrails, head-off, washed, and without ice and slime), and the allocation framework in the CSP, the non-tribal directed commercial Pacific halibut fishery allocation for 2024 is 249,338 pounds (113 mt), net weight (89 FR 19275, March 18, 2024).

This final rule implements annual management measures for 2024 for the directed commercial Pacific halibut fishery in Area 2A that are not part of the annual IPHC regulations, specifically fishing periods and fishing period limits. This final rule adopts, without changes, the annual management measures from the proposed rule published on March 13, 2024 (89 FR 18368). Specifically, this action establishes two 58-hour fishing periods and four fishing period limits (i.e. vessel catch limits) across eight vessel size classes for both fishing periods.

Fishing Periods

Fishing periods, often referred to as fishery openers, are the times during the IPHC coastwide commercial Pacific halibut season when fishing in the non-tribal directed commercial Pacific halibut fishery in Area 2A is allowed. NMFS is implementing two fishing periods open for 58 hours each. The first fishing period will begin on June 25, 2024, at 8 a.m. PDT and close on June 27, 2024, at 6 p.m. PDT. The second fishing period will begin on July 9, 2024, at 8 a.m. PDT and close on July 11, 2024, at 6 p.m. PDT.

Following the initial two fishing periods, NMFS will assess fishery harvest and determine if the fishery has attained the non-tribal directed commercial allocation. If harvest estimates indicate the allocation has not been reached, NMFS may determine that subsequent fishing period(s) are necessary to attain the allocation. If a third fishing period occurs, it would occur no sooner than 3 weeks after the second fishing period. A third fishing period, and any subsequent fishing periods, would be announced in the Federal Register through inseason action consistent with 50 CFR 300.63(e).

Fishing Period Limits

A fishing period limit, also called a vessel catch limit, is the maximum amount of Pacific halibut that may be retained and landed by a vessel during one fishing period. Each vessel may retain no more than the current fishing period limit of Pacific halibut for its vessel class, which is determined by vessel length. NMFS is implementing the non-tribal directed commercial fishing period limits shown in table 1 below. Fishing period limits are intended to ensure that the Area 2A directed commercial fishery does not exceed its allocation, while also providing fair and equitable access across participants to an attainable amount of harvest.

If NMFS determines that more than two fishing periods are warranted, NMFS will set new associated fishing period limits and any such fishing period limits for subsequent fishing periods will be set equal across all vessel classes. Any subsequent fishing period limits would be announced in the Federal Register through inseason action consistent with 50 CFR 300.63(e).

2024 Non-Tribal Directed Commercial Fishery Fishing Periods and Fishing Period Limits

The Area 2A non-tribal directed commercial fishery, which occurs south of Point Chehalis, WA, (lat. 46°53.30′ N), will open on June 25, 2024, at 8 a.m. PDT and close on June 27, 2024, at 6 p.m. PDT, and will re-open on July 9, 2024, at 8 a.m. PDT and close on July 11, 2024, at 6 p.m. PDT. The fishery's fishing periods may be adjusted inseason consistent with 50 CFR 300.63.

Table 1—Fishing Period Limits by Size Class for the 2024 First and Second Fishing Periods of the Area 2A Pacific Halibut Non-Tribal Directed Commercial Fishery
Vessel class | Length range in feet (meters) | Fishing period limit in pounds (mt)
A | 1-25 (0.3-7.8) | 1,800 (0.8164)
B | 26-30 (7.9-9.3) | 1,800 (0.8164)
C | 31-35 (9.4-10.9) | 1,800 (0.8164)
D | 36-40 (11.0-12.4) | 3,000 (1.361)
E | 41-45 (12.5-13.9) | 3,000 (1.361)
F | 46-50 (14.0-15.4) | 3,800 (1.724)
G | 51-55 (15.5-16.9) | 3,800 (1.724)
H | 56+ (17.0+) | 4,500 (2.041)
Note: Fishing period limits are in dressed weight (head-on, with ice and slime).

Comments and Responses

NMFS published a proposed rule on March 13, 2024 (89 FR 18368) and accepted public comments on the 2024 Area 2A Pacific halibut directed commercial fishery annual management measures through April 12, 2024. NMFS received one public comment.

Comment 1: NMFS received a comment from a member of the public expressing the opinion that retention of a Pacific halibut weighing over 150 pounds should not be allowed.

Response: Size limits were not within the scope of this action. However, NMFS has determined that this action is based on the best scientific information available. For 2024, the IPHC adopted a minimum size limit for commercial fisheries in its annual management measures (89 FR 19275, March 9, 2024). In addition, the IPHC previously examined maximum size limits ¹ and is conducting ongoing research activities examining factors that influence Pacific halibut biomass. Consistent with its statutory and other obligations, NMFS will continue to keep abreast of the IPHC's ongoing research and ensure that its regulatory actions, including its approval of annual Pacific halibut management measures, are based on the best scientific information available.

¹ Stewart, I., A. Hicks, and B. Hutniczak. 2020. Evaluation of directed commercial fishery size limits in 2020. IPHC-2021-AM097-09.

Classification

Regulations governing the U.S. fisheries for Pacific halibut are developed by the IPHC, the Pacific Fishery Management Council, the North Pacific Fishery Management Council, and the Secretary of Commerce. Section 5 of the Halibut Act of 1982 (Halibut Act, 16 U.S.C. 773c) allows the Regional Council having authority for a particular geographical area to develop regulations governing the allocation and catch of Pacific halibut in U.S. Convention waters as long as those regulations do not conflict with IPHC regulations.

This final rule is exempt from review under Executive Order 12866 because this action contains no implementing regulations.

The Chief Counsel for Regulation of the Department of Commerce certified to the Chief Counsel for Advocacy of the Small Business Administration during the proposed rule stage that this action would not have a significant economic impact on a substantial number of small entities. The factual basis for the certification was published in the proposed rule and is not repeated here. No comments were received regarding this certification. As a result, a regulatory flexibility analysis was not required and none was prepared.

This final rule contains no information collection requirements under the Paperwork Reduction Act of 1995.

Authority: 16 U.S.C. 773-773k.

Dated: May 6, 2024.
Samuel D. Rauch III,
Deputy Assistant Administrator for Regulatory Programs, National Marine Fisheries Service.

[FR Doc. 2024-10185 Filed 5-9-24; 8:45 am]

BILLING CODE 3510-22-P